DEPARTMENT OF TRANSPORTATION

Federal Aviation Administration

14 CFR Part 39

[Docket No. FAA-2006-23659; Directorate Identifier 2005-NM-236-AD]

RIN 2120-AA64

Airworthiness Directives; Fokker Model F27 Mark 100, 200, 300, 400, 500, 600, and 700 Airplanes

AGENCY: Federal Aviation Administration (FAA), Department of Transportation (DOT).

ACTION: Notice of proposed rulemaking (NPRM).

SUMMARY: The FAA proposes to adopt a new airworthiness directive (AD) for all Fokker Model F27 Mark 100, 200, 300, 400, 500, 600, and 700 airplanes. This proposed AD would require revising the Limitations section of the airplane flight manual regarding the use of continuous ignition, fuel filter heating, and resetting circuit breakers during flight in certain conditions such as icing. This proposed AD results from reports of power loss on one or both engines in icing conditions. We are proposing this AD to advise the flightcrew that continuous ignition will not reduce the probability of power loss, and what action they must take to avoid this hazard. Loss of power in one or more engines during flight, if not prevented, could result in loss of control of the airplane.

DATES: We must receive comments on this proposed AD by February 23, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Fokker Services B.V., P.O. Box 231, 2150 AE Nieuw-Vennep, the Netherlands, for service information identified in this proposed AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed in the ADDRESSES section. Include the docket number “FAA-2006-23659; Directorate Identifier 2005-NM-236-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority—The Netherlands (CAA-NL), which is the airworthiness authority for The Netherlands, notified us that an unsafe condition may exist on all Fokker Model F27 Mark 100, 200, 300, 400, 500, 600, and 700 airplanes. The CAA-NL advises that since the start of operations with the Fokker F27 in 1958, there have been 13 reports of power loss on a single engine in icing conditions, and 9 reports of power loss on both engines in icing conditions. Investigation revealed that the use of continuous ignition in icing conditions while the auto-feather system is armed could cause damage to the engine turbine on both engines if there is an engine flame-out or loss of power. Continuous ignition used in these circumstances could cause an immediate relight with the propeller already in a course pitch and, as a consequence, damage the turbine and cause the engine to shut down. In this case, the engine cannot be restarted. The investigation also revealed that the requirements in the airplane flight manual (AFM) regarding the use of continuous ignition in certain operational conditions will not reduce the probability of loss of engine power. Loss of power in one or more engines during flight, if not prevented, could result in loss of control of the airplane.

Relevant Service Information

Fokker Service B.V. has issued Fokker Manual Change Notification—Operational Documentation (MCNO) MCNO-F27-020, dated June 1, 2004, to the Fokker F27 AFM. The MCNO revises the normal, abnormal, and emergency procedures sections of the AFM regarding the use of continuous ignition, fuel filter heating, and resetting circuit breakers during flight in certain operating conditions such as icing conditions. The CAA-NL mandated the AFM revisions and issued Dutch airworthiness directive 2004-122, dated October 28, 2004, to ensure the continued airworthiness of these airplanes in the Netherlands.

FAA's Determination and Requirements of the Proposed AD

These airplane models are manufactured in the Netherlands and are type certificated for operation in the United States under the provisions of § 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for airplanes of this type design that are certificated for operation in the United States. Therefore, we are proposing this AD, which would require revising the normal, abnormal, and emergency procedures sections of the AFM regarding the use of continuous ignition, fuel filter heating, and resetting circuit breakers during flight in certain conditions such as icing conditions.

Costs of Compliance

This proposed AD would affect about 27 airplanes of U.S. registry. The AFM revision would take about 1 work hour per airplane, at an average labor rate of $65 per work hour. Based on these figures, the estimated cost of the proposed AD for U.S. operators is $1,755, or $65 per airplane.

Authority for This Rulemaking

Title 49 of the United States Code specifies the FAA's authority to issue rules on aviation safety. Subtitle I, section 106, describes the authority of the FAA Administrator. subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Fokker Services B.V.: Docket No. FAA-2006-23659; Directorate Identifier 2005-NM-236-AD.

Comments Due Date

(a) The FAA must receive comments on this AD action by February 23, 2006.

Affected ADs

(b) None.

Applicability

(c) This AD applies to all Fokker Model F27 Mark 100, 200, 300, 400, 500, 600, and 700 airplanes, certificated in any category.

Unsafe Condition

(d) This AD results from reports of power loss on one or both engines in icing conditions. We are issuing this AD to advise the flightcrew that continuous ignition will not reduce the probability of power loss, and what action they must take to avoid this hazard. Loss of power in one or more engines during flight, if not prevented, could result in loss of control of the airplane.

Compliance

(e) You are responsible for having the actions required by this AD performed within the compliance times specified, unless the actions have already been done.

Airplane Flight Manual (AFM) Revision

(f) Within 30 days after the effective date of this AD, revise the Limitations section of the Fokker F27 AFM by incorporating the information specified in Fokker Manual Change Notification—Operational Documentation (MCNO) MCNO-F27-020, dated June 1, 2004, into the Limitations section of the AFM.

Note 1: The actions required by paragraph (f) of this AD may be done by inserting a copy of MCNO MCNO-F27-020 into the Normal Procedures, Abnormal Procedures, and Emergency Procedures sections of the Fokker F27 AFM. When this MCNO, MCNO-F27-020, has been included in general revisions of the AFM, the general revisions may be inserted in the AFM, provided the relevant information in the general revision is identical to that in MCNO MCNO-F27-020.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Dutch airworthiness directive 2004-122, dated October 28, 2004, also addresses the subject of this AD.

Issued in Renton, Washington, on January 13, 2006.
Ali Bahrami,
Manager, Transport Airplane Directorate, Aircraft Certification Service.

[FR Doc. E6-795 Filed 1-23-06; 8:45 am]

BILLING CODE 4910-13-P